INTERNATIONAL TRADE COMMISSION

Forum on Issues Relating to Electronic Filing and Maintenance of Documents

AGENCY: United States International Trade Commission.

ACTION: Notice to assess public interest in the agency's holding a forum.

SUMMARY: The United States International Trade Commission wishes to ascertain the extent to which members of the public would be interested in attending and making statements at a forum on issues relating to electronic filing and maintenance of documents. If such a forum were to be held, it would provide members of the public with the opportunity to provide input that the Commission can use to develop effective processes for electronic document filing and maintenance. The Commission anticipates that any such forum, if held, likely would be held in January 2002.

ADDRESSES: A person wishing to appear at the forum and make a statement should file a request to do so directed to the Secretary to the Commission. A request to appear should indicate the following information: (1) The name of the person desiring to make a statement; (2) the organization or organizations represented by that person, if any; (3) contact information (address, telephone, and e-mail); and (4) information on the specific focus or interest of the person (or his or her organization) and any questions or issues the person would like to raise. A request may be sent by e-mail to “dockets@usitc.gov,” or by mail or hand delivery to the Secretary, United States International Trade Commission, 500 E Street, SW., Washington, DC 20436. The deadline for receipt of requests is Friday, December 28, 2001.

FOR FURTHER INFORMATION CONTACT: Paul R. Bardos, Esq. (202-205-3102), Office of the General Counsel, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (at URL http://www.usitc.gov).

SUPPLEMENTARY INFORMATION: The Commission is contemplating holding a forum on issues relating to electronic filing and maintenance of documents, and wishes to ascertain the extent of public interest in appearing at such a forum.

In 1996, the Commission established the Electronic Document Imaging System (EDIS), which stores and provides access to docket records in agency investigations. The Commission now is contemplating replacing EDIS with a new document management system that would provide better functionality. In particular, the Commission is seeking as part of the new system the capability to accept documents electronically.

The Commission's Rules of Practice and Procedure currently provide for the filing of documents with the agency in paper form. Consistent with the Government Paperwork Elimination Act (GPEA) (Div. C, Title XVII, Public Law 105-277), the Commission is considering permitting parties and other persons to file some documents with the agency electronically. The Commission contemplates obtaining the capability to, inter alia: (1) Permit a person to make a filing by uploading it electronically to a Commission Web site; (2) provide security to protect confidential business and business proprietary information from unauthorized disclosure; (3) verify the identity of the submitter through a password, electronic signature, or other security system; (4) acknowledge receipt of the submission by an electronic message to establish when filing occurred; and (5) alert in-house users of new submissions. A new Commission document management system might also permit faster searches for and retrieval of documents in the Commission's docket files than currently permitted by EDIS.

The Commission held a public forum on June 20, 2001, to solicit public views on (1) what features of an electronic system might be helpful to users, (2) what technical difficulties might arise in connection with such a system, and (3) how the agency might implement such a system. The agency has taken into account the views expressed at the forum, as well as those expressed in written comments, in its planning for the new system.

Now that the Commission has done further work on defining how the agency may implement such a system, the agency is considering holding another forum to solicit further input from the public on issues relating to electronic document filing and maintenance. Before scheduling such a forum, the Commission wishes to gauge the level of public interest in attending such an event.

Any person may attend the forum and make a statement concerning the issues listed above. A person wishing to do so must file a request with the Secretary. Once all requests have been received, the Commission will decide on whether to hold the forum. The Commission will inform each person whose request to appear has been granted of the date, time, location, and agenda of the forum.

By order of the Commission.
Issued: December 17, 2001.
Donna R. Koehnke,
Secretary.

[FR Doc. 01-31449 Filed 12-19-01; 8:45 am]

BILLING CODE 7020-02-P